DEPARTMENT OF TRANSPORTATION

Surface Transportation Board

[STB Docket No. AB-369 (Sub-No. 5X)]

Buffalo & Pittsburgh Railroad, Inc.—Discontinuance of Service Exemption—Between Brookville and Mahoning in Jefferson and Armstrong Counties, PA

Buffalo & Pittsburgh Railroad, Inc. (BPRR) has filed a notice of exemption under 49 CFR 1152 subpart F—Exempt Abandonments and Discontinuances of Service to discontinue service over a 40.0-mile portion of a line operated by BPRR between milepost 22.0 south of Brookville in Jefferson County, PA, and milepost 62.0 in Mahoning in Armstrong County, PA.¹ The line traverses United States Postal Service ZIP Codes 15472, 15663, 15770, 15778, 15847, 16232, 16259, 17821, and 17844. BPRR states that it intends to operate over the track between milepost 22.0 and milepost 24.0, and between milepost 56.0 and milepost 62.0, as private sidetracks or spurs.

¹ Simultaneously with this filing, in STB Docket No. AB-976X, the owner of this line, Pittsburg & Shawmut Railroad, LLC has filed a petition for exemption to abandon the line.

BPRR has certified that: (1) No local traffic has moved over the line for at least 2 years; (2) any overhead traffic can be rerouted over other lines; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.11 (transmittal letter), 49 CFR 1105.12 (newspaper publication), and 49 CFR 1152.50(d)(1) (notice of governmental agencies) have been met.

As a condition to this exemption, any employee adversely affected by the discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on July 29, 2005,² unless stayed pending reconsideration. Petitions to stay and formal expressions of intent to file an OFA under 49 CFR 1152.27(c)(2), must be filed by July 11, 2005. Petitions to reopen must be filed by July 19, 2005, with: Surface Transportation Board, 1925 K Street, NW., Washington, DC 20423-0001.

² Because this is a discontinuance of service proceeding and not an abandonment, there is no need to provide an opportunity for trail use/rail banking or public use condition requests. Likewise, no environmental or historic documentation is required under 49 CFR 1105.6(c)(6) and 1105.8.

A copy of any petition filed with the Board should be sent to BPRR's representative: Eric M. Hocky, Four Penn Center, Suite 200, 1600 JFK Blvd., Philadelphia, PA 19103.

If the verified notice contains false or misleading information, the exemption is void ab initio.

Board decisions and notices are available on our Web site at http://www.stb.dot.gov.

Decided: June 23, 2005.
By the Board, David M. Konschnik, Director, Office of Proceedings.
Vernon A. Williams,
Secretary.

[FR Doc. 05-12845 Filed 6-28-05; 8:45 am]

BILLING CODE 4915-01-P